DEPARTMENT OF COMMERCE

Foreign-Trade Zones Board

[B-48-2020]

Foreign-Trade Zone (FTZ) 201—Holyoke, Massachusetts; Notification of Proposed Production Activity; ProAmpac Holdings, Inc. (Flexible Packaging Applications); Westfield, Massachusetts

ProAmpac Holdings, Inc. (ProAmpac) submitted a notification of proposed production activity to the FTZ Board for its facilities in Westfield, Massachusetts. The notification conforming to the requirements of the regulations of the FTZ Board (15 CFR 400.22) was received on July 27, 2020.

ProAmpac already has authority to produce flexible packaging for food, medical, pharmaceutical, and other consumer and industrial applications within Subzone 201D. The current request would add finished products to the scope of authority. Pursuant to 15 CFR 400.14(b), FTZ activity would be limited to the specific finished products described in the submitted notification (as described below) and subsequently authorized by the FTZ Board.

Production under FTZ procedures could exempt ProAmpac from customs duty payments on the foreign-status materials/components used in export production (estimated five percent of production). On its domestic sales, ProAmpac would be able to choose the duty rates during customs entry procedures that apply to: Heavy paper can liner and pouch/packaging stock—paper and paperboard, weighing >150g/m2, with aluminum laminated on one side, and extruded plastics, with the paper being the primary layer; paper can liner and pouch/packaging stock without plastics—paper with aluminum laminated on one side with the paper being the primary layer; paper label stock—paper and foil laminates used for labels; laminated aluminum lidding stock—printed or unprinted aluminum, laminated with a plastic coating; aluminum laminated packaging stock without extruded plastics—aluminum laminated with printed or unprinted paper or plastic film on one side, with the aluminum being the primary layer; and, aluminum food wrap—printed and unprinted aluminum laminated with paper in roll form (duty rates ranges from duty-free to 3.7%). ProAmpac would be able to avoid duty on foreign-status components which become scrap/waste. Customs duties also could possibly be deferred or reduced on foreign-status production equipment.

There are no new materials/components included in this notification.

Public comment is invited from interested parties. Submissions shall be addressed to the Board's Executive Secretary and sent to: ftz@trade.gov. The closing period for their receipt is September 14, 2020.

A copy of the notification will be available for public inspection in the “Reading Room” section of the Board's website, which is accessible via www.trade.gov/ftz.

For further information, contact Christopher Wedderburn at Chris.Wedderburn@trade.gov or (202) 482-1963.

Dated: July 29, 2020.
Andrew McGilvray,
Executive Secretary.

[FR Doc. 2020-16890 Filed 8-3-20; 8:45 am]

BILLING CODE 3510-DS-P